SUSQUEHANNA RIVER BASIN COMMISSION

Public Hearing

AGENCY: Susquehanna River Basin Commission.

ACTION: Notice.

SUMMARY: The Susquehanna River Basin Commission will hold a public hearing on January 30, 2025. The Commission will hold this hearing in person and telephonically. At this public hearing, the Commission will hear testimony on the projects listed in the Supplementary Information section of this notice. The Commission will also hear testimony on a proposed general permit, GP-04 relating to Into Basin Diversions of Water and a proposed Dry Cooling Resolution to update the 2015 Dry Cooling Resolution previously adopted by the Commission. Such projects and actions are intended to be scheduled for Commission action at its next business meeting, tentatively scheduled for March 13, 2025, which will be noticed separately. The public should note that this public hearing will be the only opportunity to offer oral comments to the Commission for the listed projects and actions. The deadline for the submission of written comments is February 10, 2025.

DATES: The public hearing will convene on January 30, 2025, at 6 p.m. The public hearing will end at 9 p.m. or at the conclusion of public testimony, whichever is earlier. The deadline for submitting written comments is Monday, February 10, 2025.

ADDRESSES: This public hearing will be conducted in person and telephonically. You may attend in person at Susquehanna River Basin Commission, 4423 N Front St., Harrisburg, Pennsylvania, or join by telephone at Toll-Free Number 1-877-304-9269 and then enter the guest passcode 2619070 followed by #.

FOR FURTHER INFORMATION CONTACT: Jason Oyler, General Counsel and Secretary to the Commission, telephone: (717) 238-0423 or joyler@srbc.gov.

Information concerning the project applications is available at the Commission's Water Application and Approval Viewer at https://www.srbc.gov/waav. The Proposed General Permit and the Proposed Dry Cooling Resolution are available on the Commission's website at https://www.srbc.gov/regulatory/public-participation/. Additional supporting documents are available to inspect and copy in accordance with the Commission's Access to Records Policy at www.srbc.gov/regulatory/policies-guidance/docs/access-to-records-policy-2009-02.pdf.

SUPPLEMENTARY INFORMATION: In addition to the Proposed General Permit, GP-04 relating to the Into Basin Diversion of Water and the Proposed Dry Cooling Resolution, the public hearing will cover the following projects:

Projects Scheduled for Action

1. Project Sponsor and Facility: Beavertown Municipal Authority, Beaver Township, Snyder County, Pa. Applications for renewal of groundwater withdrawals (30-day averages) of up to 0.199 mgd from Well 6 and 0.199 mgd from Well 7 (Docket No. 19930901).

2. Project Sponsor and Facility: Bedford Township Municipal Authority, Bedford County, Pa. Applications for renewal of groundwater withdrawals (30-day averages) of up to 0.324 mgd from Bowman Well 1 and 0.100 mgd from Bowman Well 2 (Docket No. 19990502). Service area is located in an Environmental Justice area.

3. Project Sponsor: BlueTriton Brands, Inc. Project Facility: Pine Grove Spring, Pine Grove Township, Schuylkill County, Pa. Applications for renewal of groundwater withdrawal of up to 0.288 mgd (30-day average) from Borehole PB-1, consumptive use of up to 0.288 mgd (30-day average), and an out-of-basin diversion of up to 0.288 mgd (30-day average) (Docket No. 20000202).

4. Project Sponsor: Borough of Ephrata. Project Facility: Ephrata Area Joint Authority, Ephrata Borough, Lancaster County, Pa. Application for renewal of groundwater withdrawal of up to 0.260 mgd (30-day average) from Well 2 (Docket No. 19940706). Service area is located in an Environmental Justice area.

5. Project Sponsor and Facility: College Township Water Authority, College Township, Centre County, Pa. Application for groundwater withdrawal of up to 1.405 mgd (30-day average) from Well OH-20.

6. Project Sponsor and Facility: Diversified Production LLC (Wilson Creek), Duncan Township, Tioga County, Pa. Application for renewal of surface water withdrawal of up to 0.720 mgd (peak day) (Docket No. 20200302).

7. Project Sponsor and Facility: DS Services of America, Inc., West Earl Township, Lancaster County, Pa. Application for renewal of consumptive use of up to 0.242 mgd (30-day average) (Docket No. 20000203). Located adjacent to an Environmental Justice area.

8. Project Sponsor and Facility: EQT ARO LLC (Lycoming Creek), Lewis Township, Lycoming County, Pa. Application for renewal of surface water withdrawal of up to 1.340 mgd (peak day) (Docket No. 20200301).

9. Project Sponsor: First Investors General, Inc. Project Facility: Cool Creek Golf Club, Hellam Township, York County, Pa. Application for renewal with modification for consumptive use of up to 0.190 mgd (30-day average) (Docket No. 20000602).

10. Project Sponsor and Facility: Fredericksburg Sewer and Water Authority, Bethel Township, Lebanon County, Pa. Applications for groundwater withdrawals (30-day averages) of up to 0.158 mgd from Well 7 and 0.144 mgd from Well 8.

11. Project Sponsor: H&K Group, Inc. Project Facility: Penn/MD Materials Quarry, Fulton Township, Lancaster County, Pa. Applications for consumptive use of up to 0.024 mgd (peak day) and groundwater withdrawals (30-day averages) of up to 1.980 mgd from the Pit Sump, 0.004 mgd from the Primary and Secondary Well, and 0.011 mgd from the Tertiary Well.

12. Project Sponsor: HP Hood LLC. Project Facility: Arkport NY Plant, Hornellsville Town, Steuben County, N.Y. Application for groundwater withdrawal of up to 0.600 mgd (30-day average) from Well 2.

13. Project Sponsor and Facility: Huntsinger Farms, Inc. (Deep Creek 3), Hegins Township, Schuylkill County, Pa. Application for surface water withdrawal of up to 0.504 mgd (peak day).

14. Project Sponsor and Facility: JKLM Energy, LLC (Tioga River), Tioga Township, Tioga County, Pa. Application for surface water withdrawal of up to 3.000 mgd (peak day).

15. Project Sponsor: McStern, L.L.C. Project Facility: Deer Valley Golf Course, South Hanover Township, Dauphin County, Pa. Application for renewal with modification for consumptive use of up to 0.217 mgd (30-day average) (Docket No. 20020618).

16. Project Sponsor and Facility: Meadia Heights Golf Club LLC (Conestoga River), West Lampeter Township, Lancaster County, Pa. Applications for renewal of surface water withdrawal of up to 0.249 mgd (peak day) and consumptive use of up to 0.249 mgd (30-day average) (Docket No. 20200910). Located in an Environmental Justice area.

17. Project Sponsor: Michael Foods, Inc. Project Facility: Papetti's Hygrade Egg Products, Inc., d.b.a. Michael Foods Egg Products Company, Upper Mahantango Township, Schuylkill County, Pa. Applications for renewal of consumptive use of up to 0.225 mgd (peak day) and groundwater withdrawals (30-day averages) of up to 0.186 mgd from Well 1, 0.079 mgd from Well 2, and 0.350 mgd from Well 3 (Docket No. 19990903).

18. Project Sponsor and Facility: Repsol Oil & Gas USA, LLC (Sugar Creek), Troy Township, Bradford County, Pa. Application for surface water withdrawal of up to 0.750 mgd (peak day).

19. Project Sponsor: Susquehanna Nuclear, LLC. Project Facility: Susquehanna Steam Electric Station, Salem Township, Luzerne County, Pa. Applications for renewal of surface water withdrawal of up to 76.000 mgd (peak day) from the Susquehanna River, consumptive use of up to 53.000 mgd (peak day), and groundwater withdrawal of up to 0.125 (30-day average) from Well TW-2 (Docket No. 19950301).

20. Project Sponsor and Facility: SWN Production Company, LLC (Susquehanna River), Oakland Township, Susquehanna County, Pa. Application for renewal of surface water withdrawal of up to 3.000 mgd (peak day) (Docket No. 20200305).

21. Project Sponsor and Facility: SWN Production Company, LLC (Tunkhannock Creek), Lenox Township, Susquehanna County, Pa. Application for renewal of surface water withdrawal of up to 1.218 mgd (peak day) (Docket No. 20200306).

22. Project Sponsor: Valley CC LLC. Project Facility: Valley Country Club, Sugarloaf Township, Luzerne County, Pa. Applications for renewal of groundwater withdrawals (30-day averages) of up to 0.090 mgd from the Shop Well and 0.090 mgd from the Pumphouse Well (Docket No. 20090632).

23. Project Sponsor: Weaverland Valley Authority. Project Facility: Terre Hill Water System, East Earl Township, Lancaster County, Pa. Application for renewal of groundwater withdrawal of up to 0.098 mgd (30-day average) from Well 6 (Docket No. 19880405).

24. Project Sponsor and Facility: Westfield Borough, Tioga County, Pa. Application for groundwater withdrawal of up to 0.412 mgd (30-day average) from the Harvey Well.

Opportunity To Appear and Comment

Interested parties may appear or call into the hearing to offer comments to the Commission on any business listed above required to be the subject of a public hearing. Given the nature of the meeting, the Commission strongly encourages those members of the public wishing to provide oral comments to pre-register with the Commission by emailing Jason Oyler at joyler@srbc.gov before the hearing date. The presiding officer reserves the right to limit oral statements in the interest of time and to control the course of the hearing otherwise. Access to the hearing via telephone will begin at 5:45 p.m. Guidelines for the public hearing are posted on the Commission's website, www.srbc.gov, before the hearing for review. The presiding officer reserves the right to modify or supplement such guidelines at the hearing. Written comments on any business listed above required to be the subject of a public hearing may also be mailed to Mr. Jason Oyler, Secretary to the Commission, Susquehanna River Basin Commission, 4423 North Front Street, Harrisburg, Pa. 17110-1788, or submitted electronically through https://www.srbc.gov/meeting-comment/default.aspx?type=2&cat=7. Comments mailed or electronically submitted must be received by the Commission on or before Monday, February 10, 2025, to be considered.

Authority: Pub. L. 91-575, 84 Stat. 1509 et seq., 18 CFR parts 806, 807, and 808.

Dated: December 30, 2024.
Jason E. Oyler,
General Counsel and Secretary to the Commission.

[FR Doc. 2024-31584 Filed 1-2-25; 8:45 am]

BILLING CODE 7040-01-P